DEPARTMENT OF HEALTH AND HUMAN SERVICES

National Institutes of Health

National Institute on Aging; Amended Notice of Meeting

Notice is hereby given of a change in the meeting of the National Institute on Aging Special Emphasis Panel, February 16, 2018, 1:00 p.m. to February 16, 2018, 4:00 p.m., National Institute on Aging, Gateway Building, 7201 Wisconsin Avenue, Suite 2W200, Bethesda, MD 20892 which was published in the Federal Register on January 11, 2018, 83 FR 1375.

The meeting notice is amended to change the date of the meeting from February 16, 2018 to February 15, 2018. The location and time remain the same. The meeting is closed to the public.

Dated: January 29, 2018.
Melanie J. Pantoja,
Program Analyst, Office of Federal Advisory Committee Policy.

[FR Doc. 2018-02036 Filed 1-31-18; 8:45 am]

BILLING CODE 4140-01-P